DEPARTMENT OF COMMERCE

Economic Development Administration

Notice of Petitions by Producing Firms for Determination of Eligibility to Apply for Trade Adjustment Assistance

AGENCY: Economic Development Administration (EDA).

ACTION: To Give All Interested Parties an Opportunity to Comment.

Petitions have been accepted for filing on the dates indicated from the firms listed below.

List of Petition Action By Trade Adjustment Assistance For Period February 17, 2005—March 25, 2005
Firm name | Address | Date petition accepted | Product
Dura-Cast, Inc. | 201 N. Industrial Park Road, Enterprise, AL 36330 | 3/4/2005 | Die castings for motor vehicle fittings and mountings, electromechanical devices and parts, and cooking appliances and parts for gas and other fuels.
Elsner Engineering Works, Inc | 475 Fame Avenue, Hanover, PA 17331 | 3/4/2005 | Machinery used to make paper products.
Riverside Furniture | 1400 South 6th Street, Fort Smith, AR 72902 | 3/4/2005 | Wooden desks and wall units.
Terry Manufacturing Company | 2324 West Reagan, Palestine, TX 75802 | 3/4/2005 | Wooden cabinets.
Cornelia Broom Co., Inc. | 756 Hoyt Street, Cornelia, GA 30531 | 3/14/2005 | Corn brooms and painted broom handles.
Heavywood Furniture Co., Inc | 66126 Industrial Boulevard, Toccoa, GA 30577 | 3/14/2005 | Wood furniture for institutional applications.
Masters Custom Woodworks, Inc | 7203 East Reading Place, Tulsa, OK 74115 | 3/14/2005 | Wood cabinets, doors and furniture.
Precision Custom Components, LLC | 500 Lincoln Street, York, PA 17405 | 3/14/2005 | Precision components for the commercial nuclear, military and industrial sectors.
Craig D. Larson, dba Black Mountain Fisheries, LLC | P.O. Box 220, Carlton, WA 98814 | 2/17/2005 | Crabs.
Lehighton Electronics, Inc | 1st & South Streets, Lehighton, PA 18235 | 2/17/2005 | Measuring and controlling instruments.
Pentaplex, Inc. | 1725 Fleetwood Drive, Elgin, IL 60123 | 3/17/2005 | Printed circuit boards.
InSport International, Inc. | 1870 NW 173rd Avenue, Beaverton, OR 97006 | 3/21/2005 | Men's and women's short.
A & M Optical Company, Inc | 5211 Highway 153, Chattanooga, TN 37343 | 3/24/2005 | Precision ground eyeglass lenses.
Custom Production, Inc. | 3100 Adora Teal Way, Crestview, FL | 3/24/2005 | Bicycle sprockets and components.
EZ Tooler, Inc. | 6236 Paducah Road, La Center, KY 42056 | 3/24/2005 | Woodworking machines.
Goody Products, Inc. | 400 Galleria Parkway, Atlanta, GA 30339 | 3/24/2005 | Brushes, hair accessories and other personal care products.
King Tool, Inc. | 5350 Love Lane, Bozeman, MT 59718 | 3/24/2005 | Hand tools, i.e. vises, picks, and scribes.
Pennset, Inc. | 164 West 9th Street, Bloomsburg, PA 17815 | 3/24/2005 | Prepress book composition products for the book publishing industry.
Ted Ruhling Company, Inc | 1602 SW Jefferson Lee's Summit, MO 64081 | 3/24/2005 | Pool and pond, netted quipment.
Automated Equipment Services, Inc | 2335 W. Vancouver Street, Broken Arrow, OK 74012 | 3/25/2005 | Parts for robotic automation, including spare parts, feeders, and surgery units.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice. The Catalog of Federal Domestic Assistance official program number and title of the program under which these petitions are submitted is 11.313, Trade Adjustment Assistance.

Dated: April 4, 2005.
Anthony J. Meyer,
Senior Program Analyst, Office of Strategic Initiatives.

[FR Doc. 05-7001 Filed 4-7-05; 8:45 am]

BILLING CODE 3510-24-P